DEPARTMENT OF VETERANS AFFAIRS

[OMB Control No. 2900-0675]

Proposed Information Collection (Vetbiz Vendor Information Pages Verification Program) Activity: Comment Request

AGENCY: Center for Veterans Enterprise, Department of Veterans Affairs.

ACTION: Notice.

SUMMARY: The Center for Veterans Enterprise (CVE), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to identify veterans owned businesses.

DATES: Written comments and recommendations on the proposed collection of information should be received on or before November 29, 2010.

ADDRESSES: Submit written comments on the collection of information through http://www.Regulations.gov; or Gail Wegner (00VE), Department of Veterans Affairs, 810 Vermont Avenue, NW., Washington, DC 20420 or e-mail: gail.wegner@va.gov. Please refer to “OMB Control No. 2900-0675” in any correspondence. During the comment period, comments may be viewed online through the Federal Docket Management System (FDMS) at http://www.Regulations.gov.

FOR FURTHER INFORMATION CONTACT: Gail Wegner at (202) 303-3296 or FAX (202) 254-0238.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, CVE invites comments on: (1) Whether the proposed collection of information is necessary for the proper performance of CVE's functions, including whether the information will have practical utility; (2) the accuracy of CVE's estimate of the burden of the proposed collection of information; (3) ways to enhance the quality, utility, and clarity of the information to be collected; and (4) ways to minimize the burden of the collection of information on respondents, including through the use of automated collection techniques or the use of other forms of information technology.

Title: Vetbiz Vendor Information Pages Verification Program, VA Form 0877.

OMB Control Number: 2900-0675.

Type of Review: Extension of a currently approved collection.

Abstract: Vetbiz Vendor Information Pages Verification Program is used to assist federal agencies in identifying small businesses owned/controlled by veterans and service-connected disabled veterans. The information is necessary to ensure that veteran/owned businesses are given the opportunity to participate in Federal contracts and receive contract solicitations information automatically. VA will use the data collected to verify small businesses as veteran-owned or service-disabled veteran-owned.

Affected Public: Business or other for-profit.

Estimated Annual Burden: 10,000 hours.

Estimated Average Burden per Respondent: Vetbiz Vendor Information Pages Verification Program—30 minutes.

Frequency of Response: On occasion.

Estimated Number of Respondents: 20,000.

By direction of the Secretary.
Denise McLamb,
Program Analyst, Enterprise Records Service.

[FR Doc. 2010-24437 Filed 9-28-10; 8:45 am]

BILLING CODE P